FEDERAL COMMUNICATIONS COMMISSION

Public Information Collection(s) Approved by Office of Management and Budget

December 7, 2005.

SUMMARY: The Federal Communications Commission (FCC) has received Office of Management and Budget (OMB) approval for the following public information collections pursuant to the Paperwork Reduction Act of 1995, Pub. L. 104-13. An agency may not conduct or sponsor and a person is not required to respond to a collection of information unless it displays a currently valid control number.

DATES: The revision to § 101.1523(b) published at 70 FR 29985, May 25, 2005, became effective on December 7, 2005.

FOR FURTHER INFORMATION CONTACT: Judith B. Herman at (202) 418-0214 or via the Internet at Judith-B.Herman@fcc.gov.

SUPPLEMENTARY INFORMATION:

OMB Control No.: 3060-1070.

OMB Approval Date: December 7, 2005.

Expiration Date: 12/31/08.

Title: Allocations and Service Rules for the 71-76 GHz, 81-86 GHz, and 92-95 GHz Bands—WT Docket No. 02-146; FCC 05-45.

Form No.: N/A.

Number of Responses: 1,000 responses.

Estimated Time Per Response: 1.5-3.5 hours.

Total Annual Burden: 12,000 hours.

Total Annual Cost: $1,830,000.

Needs and Uses: The Commission adopted a Memorandum Opinion and Order, WT Docket No. 02-146, FCC 05-45, which revises the rules to require licensees, as part of the link registration process, to submit to the Database Manager (DM) an analysis under the interference protection criteria for the 70-80 GHz bands that demonstrates that the proposed link will neither cause nor receive harmful interference relative to previously registered non-government links. This requirement will apply to link registrations (new or modified) that are first submitted to a database manager on or after the effective date of this new requirement. The database managers will accept all interference analyses submitted during the link registration process and retain them electronically for subsequent review by the public. It is important for the “first-in-time” determination, and for adjudicating complaints filed with the Commission, that the interference analysis captures the exact snapshot in time (i.e., conditions at the time-of-link-registration) that will be dispositive in a dispute. Without the benefit of an interference analysis on file, it would be much more difficult for registrants to recreate conditions accurately after the fact.

Federal Communications Commission.
William F. Caton,
Deputy Secretary.

[FR Doc. 05-24622 Filed 12-28-05; 8:45 am]

BILLING CODE 6712-01-P